DEPARTMENT OF ENERGY

Federal Energy Regulatory Commission

Combined Notice of Filings #2

Take notice that the Commission received the following electric rate filings:

Docket Numbers: ER13-1966-001.

Applicants: NRG Wholesale Generation LP.

Description: Compliance filing: Informational Filing Regarding Planned Transfer to be effective N/A.

Filed Date: 8/7/17.

Accession Number: 20170807-5112.

Comments Due: 5 p.m. ET 8/28/17.

Docket Numbers: ER15-2572-004.

Applicants: GenOn Energy Management, LLC.

Description: Compliance filing: Informational Filing Regarding Planned Transfer to be effective N/A.

Filed Date: 8/7/17.

Accession Number: 20170807-5108.

Comments Due: 5 p.m. ET 8/28/17.

Docket Numbers: ER15-2573-004.

Applicants: GenOn Energy Management, LLC.

Description: Compliance filing: Informational Filing Regarding Planned Transfer to be effective N/A.

Filed Date: 8/7/17.

Accession Number: 20170807-5109.

Comments Due: 5 p.m. ET 8/28/17.

Docket Numbers: ER16-209-004.

Applicants: Southwest Power Pool, Inc.

Description: Compliance filing: Central Power Electric Cooperative Formula Rate Compliance Filing to be effective 1/1/2016.

Filed Date: 8/7/17.

Accession Number: 20170807-5144.

Comments Due: 5 p.m. ET 8/28/17.

Docket Numbers: ER16-1774-003.

Applicants: Southwest Power Pool, Inc.

Description: Compliance filing: Western Farmers Electric Cooperative Formula Rate Compliance Filing to be effective 7/1/2016.

Filed Date: 8/7/17.

Accession Number: 20170807-5152.

Comments Due: 5 p.m. ET 8/28/17.

Docket Numbers: ER16-2665-003.

Applicants: NRG Power Midwest LP.

Description: Compliance filing: Informational Filing Regarding Planned Transfer to be effective N/A.

Filed Date: 8/7/17.

Accession Number: 20170807-5111.

Comments Due: 5 p.m. ET 8/28/17.

Docket Numbers: ER17-274-002.

Applicants: GenOn Energy Management, LLC.

Description: Compliance filing: Informational Filing Regarding Planned Transfer to be effective N/A.

Filed Date: 8/7/17.

Accession Number: 20170807-5110.

Comments Due: 5 p.m. ET 8/28/17.

Docket Numbers: ER17-1342-001.

Applicants: Duke Energy Florida, LLC, Duke Energy Carolinas, LLC.

Description: Compliance filing: Correct Loss Factor Tariff Records to be effective 5/1/2017.

Filed Date: 8/7/17.

Accession Number: 20170807-5077.

Comments Due: 5 p.m. ET 8/28/17.

Docket Numbers: ER17-2250-000.

Applicants: Midcontinent Independent System Operator, Inc.

Description: § 205(d) Rate Filing: 2017-08-07_SA 2523 ITC-Pheasant Run 4th Revised GIA (J075 J466) to be effective 7/24/2017.

Filed Date: 8/7/17.

Accession Number: 20170807-5078.

Comments Due: 5 p.m. ET 8/28/17.

Docket Numbers: ER17-2251-000.

Applicants: GenOn Energy Management, LLC.

Description: § 205(d) Rate Filing: Rate Schedule FERC No. 1 to be effective 9/1/2017.

Filed Date: 8/7/17.

Accession Number: 20170807-5093.

Comments Due: 5 p.m. ET 8/28/17.

Docket Numbers: ER17-2252-000.

Applicants: NRG Power Marketing LLC.

Description: § 205(d) Rate Filing: Rate Schedule FERC No. 1 to be effective 9/1/2017.

Filed Date: 8/7/17.

Accession Number: 20170807-5094.

Comments Due: 5 p.m. ET 8/28/17.

Docket Numbers: ER17-2253-000.

Applicants: NorthWestern Corporation.

Description: NorthWestern Corporation submits Average System Cost Filing for Sales of Electric Power to the Bonneville Power Administration, FY 2018-2019.

Filed Date: 8/7/17.

Accession Number: 20170807-5121.

Comments Due: 5 p.m. ET 8/28/17.

Docket Numbers: ER17-2254-000.

Applicants: Southern California Edison Company.

Description: Tariff Cancellation: Notices of Cancellation IFA & DSA Mid Valley Landfill Project SA Nos. 73 & 74 to be effective 12/3/2017.

Filed Date: 8/7/17.

Accession Number: 20170807-5127.

Comments Due: 5 p.m. ET 8/28/17.

Docket Numbers: ER17-2255-000.

Applicants: PJM Interconnection, L.L.C.

Description: § 205(d) Rate Filing: Original Service Agreement No. 4758, Queue Position No. AA2-177 to be effective 7/10/2017.

Filed Date: 8/7/17.

Accession Number: 20170807-5139.

Comments Due: 5 p.m. ET 8/28/17.

Take notice that the Commission received the following qualifying facility filings:

Docket Numbers: QF17-1266-000.

Applicants: Escondido Bioenergy Facilty, LLC.

Description: Form 556 of Escondido Bioenergy Facilty, LLC.

Filed Date: 8/3/17.

Accession Number: 20170803-5043.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 7, 2017.
Nathaniel J. Davis, Sr.,
Deputy Secretary.

[FR Doc. 2017-16958 Filed 8-10-17; 8:45 am]

BILLING CODE 6717-01-P